NUCLEAR WASTE TECHNICAL REVIEW BOARD

Privacy Act; Systems of Records

AGENCY: Nuclear Waste Technical Review Board.

ACTION: Annual notice of systems of records.

SUMMARY: Each Federal agency is required by the Privacy Act of 1974, 5 U.S.C. 552a, to publish annually a description of the systems of records it maintains containing personal information. In this notice the Board provides the required information on two systems of records.

FOR FURTHER INFORMATION CONTACT: Joyce M. Dory, Director of Administration, Nuclear Waste Technical Review Board, 2300 Clarendon Boulevard, Suite 1300, Arlington, VA 22201, (703) 235-4473.

SUPPLEMENTARY INFORMATION: The Board currently maintains two systems of records under the Privacy Act. Each system is described below.

NWTRB-1

System name:

Administrative and Travel Files.

Security classification:

Unclassified.

System location:

Nuclear Waste Technical Review Board, 2300 Clarendon Boulevard, Suite 1300, Arlington, VA 22201.

Categories of individuals covered by the system:

Employees and applicants for employment with the Board, including NWTRB contractors and consultants.

Categories of records in the system:

Records containing the following information:

(1) Time and attendance;

(2) Payroll actions and deduction information requests;

(3) Authorizations for overtime and night differential;

(4) Credit cards and telephone calling cards issued to individuals;

(5) Destination, itinerary, mode and purpose of travel;

(6) Date(s) of travel and all expenses;

(7) Passport number;

(8) Request for advance of funds and voucher with receipts;

(9) Travel authorizations;

(10) Name, address, social security number, and birth date; and

(11) Employee public transit subsidy applications and vouchers.

Authority for maintenance of the system:

Public Law 100-203, Part E

Routine uses of records maintained in the system; including categories of users and the purposes of such uses:

Information is used “in house.” Notwithstanding the above, access may also be gained under the following conditions:

(a) In the event that a system of records maintained by this agency to carry out its functions indicates a violation or potential violation of law, whether civil, criminal or regulatory in nature, and whether arising by general statute or particular program statute, or by regulation, rule or order issued pursuant thereto, the relevant records in the system of records may be referred, as a routine use, to the appropriate agency, whether federal, state, local or foreign, charged with the responsibility of investigating or prosecuting such violation or charged with enforcing or implementing the statutes, or rule, regulation or order issued pursuant thereto.

(b) A record from the system of records may be disclosed as a “routine use” to a federal, state or local agency maintaining civil, criminal or other relevant enforcement information or other pertinent information, such as current licenses, if necessary to obtain information relevant to an agency decision concerning the hiring or retention of an employee, the issuance of a security clearance, the letting of a contract, or the issuance of a license, grant or other benefit.

(c) A record from this system of records may be disclosed to a federal agency, in response to this request, in connection with the hiring or retention of an employee, the issuance of a security clearance, the reporting of an investigation of an employee, the letting of a contract, or the issuance of a license, grant or other benefits by the requesting agency, to the extent that the information is relevant and necessary to the requesting agency's decision on the matter.

Policy and practices for storing, retrieving, accessing, retaining, and disposing of records in the system:

Storage:

Paper records and computer disk.

Retrievability:

By type of document, then name.

Safeguards:

Access is limited to employees having a need to know. Records are stored in locked file cabinets in a controlled access area in accordance with federal guidelines or in password protected electronic databases.

Retention and disposal:

Records retention and disposal authorities are contained in the “General Records Schedules” published by National Archives and Records Administration, Washington, DC. Records within NWTRB are destroyed by shredding or purging.

System manager(s) and address:

Nuclear Waste Technical Review Board, 12300 Clarendon Boulevard, Suite 1300, Arlington, VA 22201, Attention: Office of Administration.

Notification procedure:

Requests by an individual to determine if NWTRB-1 contains information about him/her should be directed to the System Manager listed above. Required identifying information: complete name, social security number, and date of birth.

Record access procedure:

Same as notification procedures above, except individual must show official photo identification before viewing records.

Contesting record procedure:

Same as notification procedure.

Record source categories:

Subject individuals, timekeepers, travel officers, official personnel records, GSA for accounting and payroll, and travel agency contract.

System exempted from certain provisions of the Act:

None.

NWTRB-2

System Name:

Mailing Lists.

Security classification:

Unclassified.

System Location:

Nuclear Waste Technical Review Board, 2300 Clarendon Boulevard, Suite 1300, Arlington, VA 22201.

Categories of individuals covered by the system:

Those who receive reports in compliance with statutory authority and those individuals who have requested Board reports, newsletters, meeting transcripts and/or press releases.

Categories of records in the system:

List of names, addresses and materials requested.

Authority for maintenance of the system:

Public Law 100-203, Part E.

Routine uses of the records maintained in the system, including categories of users and the purposes of such use:

Distribution of Board reports, newsletters, meeting transcripts, and press releases. Information is used “in-house.” Notwithstanding the above, access may also be gained under the following condition.

In the event that a system of records maintained by this agency to carry out its functions indicates a violation or potential violation of law, whether civil, criminal or regulatory in nature, and whether arising by general statute or particular program statute, or by regulation, rule or order issued pursuant thereto, the relevant records in the system of records may be referred, as a routine use, to the appropriate agency, whether federal, state, local or foreign, charged with the responsibility of investigating prosecuting such violation or charged with enforcing or implementing the statues, or rule, regulation or order issued pursuant thereto.

Policies and practices for storing, retrieving, accessing, retaining, and disposing of records in the system:

Storage:

Computer disk.

Retrievability:

By name and type of information requested.

Safeguards:

Access is limited to employees having a need to know. Lists are kept in password protected electronic databases.

Retention and disposal:

Requesters are sent periodic requests to update their records and/or remain on the mailing list. Nonrespondents and all asking to be deleted are purged from the list.

System manager(s) and address:

Nuclear Waste Technical Review Board, 2300 Clarendon Boulevard, Suite 1300, Arlington, VA 22201, Attention: Office of Administration.

Notification procedures:

Requests by an individual to determine if NWTRB-2 contains information about him/her should be directed to the System Manager (above). Required identifying information: complete name and address.

Record access procedure:

Same as notification procedure above, except individual must show official photo identification before viewing records.

Contesting record procedure:

Same as notification procedure.

Record Source categories:

Statutory reporting authority and requests from individuals to be placed on a distribution.

System exempted from certain provisions of the Act:

None.

Dated: March 6, 2001.
Joyce M. Dory,
Director of Administration.

[FR Doc. 01-6252 Filed 3-13-01; 8:45 am]

BILLING CODE 7590-01-M